DEPARTMENT OF AGRICULTURE

Food Safety and Inspection Service

[Docket No. FSIS-2011-0007]

Codex Alimentarius Commission: Meeting of the Codex Alimentarius Commission

AGENCY: Office of the Under Secretary for Food Safety, USDA.

ACTION: Notice of public meeting and request for comments.

SUMMARY: The Office of the Under Secretary for Food Safety, U.S. Department of Agriculture (USDA), is sponsoring a public meeting on June 16, 2011. The objective of the public meeting is to provide information and receive public comments on agenda items and draft United States (U.S.) positions that will be discussed at the 34th session of the Codex Alimentarius Commission (CAC), which will be held in Geneva, Switzerland, July 4-9, 2011. The Under Secretary for Food Safety recognizes the importance of providing interested parties the opportunity to obtain background information on the 34th session of the CAC and to address items on the agenda.

DATES: The public meeting is scheduled for June 16, 2011, from 1 p.m. to 4 p.m.

ADDRESSES: The public meeting will be held in the Jamie L. Whitten Building, USDA, 1400 Independence Avenue, SW., Room 107-A, Washington, DC 20250.

Documents related to the 34th session of the CAC will be accessible via the World Wide Web at the following address: http://www.codexalimentarius.net/current.asp.

Karen Stuck, U.S. Codex Manager, invites U.S. interested parties to submit their comments electronically to the following e-mail address: uscodex@fsis.usda.gov.

Call-In Number: If you wish to participate in the public meeting for the 34th session of the CAC by conference call, please use call-in number and participant code listed below:

Call-in Number: 1-888-858-2144.

Participant Code: 6208658.

For Further Information About the 34th Session of the CAC Contact: Karen Stuck, U.S. Codex Office, 1400 Independence Avenue, SW., Room 4861, Washington, DC 20250, telephone: (202) 205-7760, fax: (202) 720-3157, e-mail: uscodex@fsis.usda.gov.

For Further Information About the Public Meeting Contact: Barbara McNiff, U.S. Codex Office, 1400 Independence Avenue, SW., Room 4861, Washington, DC 20250, telephone: (202) 690-4719, fax: (202) 720-3157, e-mail: Barbara.McNiff@fsis.usda.gov.

SUPPLEMENTARY INFORMATION:

Background

The CAC was established in 1963 by two United Nations organizations, the Food and Agriculture Organization (FAO) and the World Health Organization (WHO). Through adoption of food standards, codes of practice, and other guidelines developed by its committees, and by promoting their implementation by governments, Codex seeks to:

(a) Protect the health of the consumers and ensure fair practices in food trade;

(b) Promote coordination of all food standards work undertaken by international governmental and non governmental organizations;

(c) Determine priorities and initiate and guide the preparation of draft standards through and with the aid of appropriate organizations;

(d) Finalize standards elaborated under (c) above and publish them in a Codex Alimentarius either as regional or worldwide standards, together with international standards already finalized by other bodies under (b) above, wherever this is practicable;

(e) Amend published standards, as appropriate, in the light of new developments.

Issues To Be Discussed at the Public Meeting

The following items on the agenda for the 34th session of the CAC will be discussed during the public meeting:

• Report by the Chairperson on the 65th session of the Executive Committee

• Reports of the FAO/WHO Coordinating Committees and Appointment of Regional Coordinators

• Proposed Amendments to the Procedural Manual

• Comments on the Proposed Amendments to the Procedural Manual

• Draft Standards and Related Texts at Step 8 of the Procedure (including those submitted at Step 5 with a recommendation to omit Steps 6 and 7 and at Step 5 of the Accelerated Procedure)

• Comments on Draft Standards and Related Texts at Step 5

• Revocation of Existing Codex Standards and Related Texts

• Amendments to Codex Standards and Related Texts

• Proposals for the Elaboration of New Standards and Related Texts and for the Discontinuation of Work

• Matters referred to the CAC by Codex Committees and Task Forces

• Financial and Budgetary Matters

• Strategic Planning of the CAC

• Relations between the CAC and other International Organizations

• Matters arising from the FAO and the WHO

(a) FAO/WHO Project and Trust Fund for Enhanced Participation in Codex

(b) Other Matters arising from the FAO and the WHO

• Election of the Chairperson, Vice-Chairpersons, and other Members of the Executive Committee

• Designation of Countries responsible for Appointing the Chairpersons of Codex Committees and Task Forces and Schedule of Sessions 2012-2013

Each issue listed will be fully described in documents distributed, or to be distributed, by the Secretariat prior to the meeting. Members of the public may access copies of these documents (see ADDRESSES).

Public Meeting

At the 34th session of the CAC public meeting, draft U.S. positions on the agenda items will be described and discussed, and attendees will have the opportunity to pose questions and offer comments. Written comments may be offered at the meeting or sent to the U.S. Codex Manager for the 34th session of CAC. (See ADDRESSES). Written comments should state that they relate to activities of the 34th session of the CAC.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC on March 30, 2011.
Karen Stuck,
U.S. Manager for Codex Alimentarius.

[FR Doc. 2011-8399 Filed 4-7-11; 8:45 am]

BILLING CODE 3410-DM-P